DEPARTMENT OF THE INTERIOR

National Park Service

Final Wilderness and Backcountry Management Plan and Environmental Impact Statement for Isle Royale National Park, MI

AGENCY: National Park Service, Department of the Interior.

ACTION: Notice of Availability.

SUMMARY: Pursuant to Section 102(2)(C) of the National Environmental Policy Act of 1969, 42 U.S.C. 4332(2)(C), the National Park Service (NPS) announces the availability of a Final Wilderness and Backcountry Management Plan and Environmental Impact Statement (Plan/EIS)for Isle Royale National Park, Michigan (Isle Royale).

DATES: The final Plan/EIS will remain available for public review for 30 days following the publishing of the notice of availability in the Federal Register by the Environmental Protection Agency.

ADDRESSES: The Plan/EIS is available via the Internet through the NPS Planning, Environment, and Public Comment Web site (http://parkplanning.nps.gov/ISRO); click on the link to Wilderness and Backcountry Management Plan. You may also obtain a copy of the final Plan/EIS by sending a request to the Superintendent, Isle Royale National Park, 800 East Lakeshore Drive, Houghton, Michigan 49931.

SUPPLEMENTARY INFORMATION: The purpose of the Plan/EIS is to serve as a public document that outlines steps for preserving Isle Royale's wilderness character, natural resources, and cultural resources while also providing for the use and enjoyment of the park's wilderness and backcountry by current and future generations. It also serves as a management document that will provide accountability, consistency, and continuity for managing Isle Royale's wilderness and backcountry and this park's place in the NPS's wilderness management program.

The Plan/EIS addresses issues and provides guidelines for managing the wilderness and backcountry areas of the park, which encompass all areas of Isle Royale outside of the Developed and Open Water Zones. This Plan/EIS addresses a wide array of management issues, and identifies specific goals, objectives, and decisionmaking guidelines for administrative actions and visitor use. In many cases this Plan/EIS formalizes current NPS management practices in Isle Royale's wilderness and backcountry. However, several modifications and changes are proposed that are intended to bring management practices on Isle Royale into better compliance with NPS policies, improve visitor services, or generally improve wilderness and backcountry management in the park. This Plan/EIS does not propose any changes in the wilderness boundaries set forth in Isle Royale's 1976 Wilderness Legislation.

Adopting this Plan/EIS causes some changes in how the NPS manages wilderness and backcountry in Isle Royale, some of which will be readily apparent to the public, while others will be primarily operational. The NPS will institutionalize a Minimum Requirement process to guide and document decisions on appropriate tools for maintenance activities in the park's wilderness, appropriate research projects and field methods within wilderness, and appropriate administrative actions within the wilderness. The NPS will aim to make better use of research and monitoring to guide management through the creation and implementation of a coordinated monitoring plan, and will strive to increase staff training and accountability for wilderness management.

The most obvious changes from the public perspective are those that address crowding and visitor distribution, visitor information services, and resource conditions. Several issues were presented in the draft Plan/EIS with multiple alternatives for goals and management actions, which were developed with extensive public input. These issues are: (1) Managing overnight camping and boating in Isle Royale's wilderness and backcountry, including permitting and information services; (2) managing day use in the park's wilderness and backcountry; (3) managing campfires; (4) maintaining or removing the fire towers in the park's wilderness; and (5) maintaining or removing picnic tables from wilderness campgrounds. Chapter 2 outlines the details of all of the previously proposed changes, and identifies the NPS preferred alternative (the final, approved action alternative) for each of these issues.

The draft Plan/EIS proposed several changes in how Isle Royale's wilderness and backcountry are managed. The preferred alternatives were crafted with an intention of creating one cohesive management program, with management goals for each of several issues being complementary, not contradictory. The planning team's intention was to respond to public interest and the concerns of subject matter experts, and incorporate the best science available for guiding preservation of Isle Royale's resources and values. General goals included improving the quality of wilderness and backcountry experiences for visitors while still providing high public access to the park for appropriate types of recreation. Existing facilities could be used more efficiently, while unnecessary facilities would be removed from the wilderness.

The preferred alternatives in combination also strive to minimize adverse resource impacts, in many cases improving resource conditions that are currently showing degradation. Since Isle Royale is already a difficult and expensive park to visit, the preferred alternatives were also crafted with an interest in not further restricting general public access to the park. The preferred alternative for managing overnight camping and boating on Isle Royale focused on more efficiently utilizing existing camping facilities through the creation of a backcountry office and advanced permitting. The intent is to expand visitor services for trip planning and reduce campground crowding to improve social and resource conditions in campgrounds. This could result in a decrease in visitor access to the backcountry for camping during the busiest weeks of the season. The preferred alternative for managing day use was crafted with an intention to allow an increase in day use and concessions lodging throughout the visitor season. Day tours would be managed to concentrate the majority of day visitors close to developed and frontcountry areas of the park and minimize adverse impacts to wilderness character and other critical resources.

The preferred alternatives in combination also aimed to minimize or reduce the impacts of development in the park's wilderness. Although the preferred alternative for overnight use would add one additional campsite at North Desor campground and a few rustic cabins in Rock Harbor, and the preferred alternative for day use would add three to five miles of new trail, no new campgrounds would be constructed other than those approved in the park's General Management Plan, up to two fire towers would be removed, and campfire rings would be located only where resource conditions could tolerate the associated impacts.

The Plan/EIS involves analysis of current conditions in the park and the likely impacts of implementing each of the alternatives, considering impacts to visitor use and experiences, wilderness character, natural resources, cultural resources, socioeconomics, and NPS operations and administration. In general, each of the alternatives would be expected to result in both beneficial and adverse impacts to park resources and values.

FOR FURTHER INFORMATION CONTACT: Contact Superintendent Phyllis Green, Isle Royale National Park, at the address above or by telephone at 906-482-0984.

Dated: May 17, 2011.
Michael T. Reynolds,
Regional Director, Midwest Region.

[FR Doc. 2011-25062 Filed 9-28-11; 8:45 am]

BILLING CODE 4312-92-P